DEPARTMENT OF AGRICULTURE

Agricultural Marketing Service

[Doc. No. AMS-TM-23-0067]

Notice of Request for Extension and Revision of a Currently Approved Information Collection

AGENCY: Agricultural Marketing Service, USDA.

ACTION: Notice and request for comments.

SUMMARY: In accordance with the Paperwork Reduction Act of 1995, this notice announces the Agricultural Marketing Service's (AMS) intention to extend its current approval from the Office of Management and Budget to collect information for eight competitive and two non-competitive AMS Grant Programs under its Grants Division. AMS TM Grant Programs is merging collection OMB 0581-0320—Non-competitive Micro-Grants for Food Security Program (MGFSP). MGFSP was acquired through the enactment of the Agriculture Improvement Act of 2018 (Farm Bill).

DATES: Comments on this notice must be received by February 12, 2024 to be assured of consideration.

ADDRESSES: Interested persons are invited to submit comments concerning this notice by using the electronic process available at https://www.regulations.gov. All comments should reference the document number and the date and the page number of this issue of the Federal Register. Written comments may be submitted to Robert Tarwater, Grants Division Director, AMS Transportation and Marketing Program, 1400 Independence Avenue SW, Stop 0269, Washington, DC 20250-0264. All comments received will be posted without change, including any personal information provided, at https://www.regulations.gov and will be included in the record and made available to the public. Please do not include personally identifiable information (such as name, address, or other contact information) or confidential business information that you do not want publicly disclosed. Comments may be submitted anonymously.

FOR FURTHER INFORMATION CONTACT: Robert Tarwater, Director, Grants Division, Telephone: (202) 690-1300 or Email: Robert.Tarwater@usda.gov.

SUPPLEMENTARY INFORMATION:

Title: AMS Grant Programs.

OMB Number: 0581-0240.

Expiration Date of Approval: 1/31/2024.

Type of Request: Extension and revision of a currently approved information collection.

Abstract: AMS Grant Programs are authorized pursuant to the Agricultural Marketing Act of 1946 (AMA) (7 U.S.C. 1621, et seq.) and are implemented through the Uniform Administrative Requirements, Cost Principles, and Audit Requirements for Federal Awards (Super Circular) (2 CFR 200). The AMS Grants Division requests to extend its current approval to collect information for its grant programs. The grant program being added to this collection is the Micro-Grants for Food Security Program (MGFSP), which operates pursuant to the authority of section 4206 of the Agriculture Improvement Act of 2018 (Pub. L. 115-343), (7 U.S.C. 7518) (Farm Bill). Section 4206 directs the Secretary of Agriculture to “distribute funds to the agricultural department or agency of each eligible state for the competitive distribution of subgrants to eligible entities for fiscal year 2019 and each fiscal year thereafter.” The MGFSP works to increase the quantity and quality of locally grown food in food insecure communities, including through small-scale gardening, herding, and livestock operations.

AMS solicits for subject matter experts to act as peer reviewers for competitive grant programs under its purview. Interested individuals apply and those selected objectively review and evaluate grant applications against the criteria outlined in the published announcement.

Because AMS Grant Programs are voluntary, respondents request or apply for the specific competitive or non-competitive grant program they select, and in doing so, they provide information. AMS is the primary user of the information. The information collected is needed to certify that grant participants are complying with applicable program regulations, and the data collected is the minimum information necessary to effectively carry out the requirements of the program. The information collection requirements in this request are essential to carry out the intent of the AMA, to provide the respondents the type of service they request, and to administer these programs. The burden of the AMS Grant Programs is as follows:

Combined Burden for AMS Grant Programs

Estimate of Burden: 2.34.

Respondents: Peer reviewers, grant applicants, grant recipients.

Estimated Number of Respondents: 5,047.

Estimated Total Annual Responses including Recordkeeping: 11,286.

Estimated Number of Responses per Respondent: 30.

Estimated Total Annual Burden on Respondents and Recordkeepers: 24,808.30.

Micro Grants for Food Security Program

Estimate of Burden: 2.65.

Respondents: Grant applicants and grant recipients.

Estimated Number of Respondents and Recordkeepers: 10.

Estimated Total Annual Responses including Recordkeeping: 120.

Estimated Number of Responses per Respondent including Recordkeepers: 11.

Estimated Total Annual Burden on Respondents and Recordkeepers: 318.33.

Comments are invited on: (1) whether the new collection of information is necessary for the proper performance of the functions of the agency, including whether the information will have practical utility; (2) the accuracy of the agency's estimate of the burden of the new collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Authority: 44 U.S.C. chapter 35.

Erin Morris,
Associate Administrator, Agricultural Marketing Service.

[FR Doc. 2023-27305 Filed 12-12-23; 8:45 am]

BILLING CODE P